DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Trade Report.

Form Number(s): SA-42, SA-42A.

Agency Approval Number: 0607-0195.

Type of Request: Revision of a currently approved collection.

Burden: 2,364 hours.

Number of Respondents: 6,000.

Avg. Hours Per Response: 24 minutes.

Needs and Uses: The Annual Trade Survey (ATS) is the official source of annual sales, inventory, inventory valuation methods, purchases, cost of goods sold, and gross margin estimates for merchant wholesalers in the United States. The ATS provides annual wholesale data needed to improve the accuracy of personal consumption estimates and inventory adjustments in the gross domestic product (GDP) accounts and for benchmarking results of the Monthly Wholesale Trade Survey. The ATS has fulfilled these important and recurring data needs since its inception in 1978. The estimates compiled from this survey provide valuable information for economic policy decisions by the government and are widely used by private businesses, trade organizations, professional associations, and other business research and analysis organizations. This request is for the clearance of two similar report forms, the SA-42 and SA-42A, used to collect data in this survey using the North American Industry Classification System (NAICS). Previously, these report forms were numbered B-450 and B-451 on the old Standard Industrial Classification (SIC) basis. The move to NAICS represents a change in classification to some companies, but not a change in the questions asked on our forms. Both forms request similar data items but different forms are needed to accommodate both large and small firms. The survey report forms are used to collect both total and e-commerce sales, purchases, year-end inventory, inventory valuation methods, and legal form of organization from merchant wholesale firms.

Affected Public: Businesses or other for-profit.

Frequency: Annually.

Respondent's Obligation: Mandatory.

Legal Authority: Title 13 U.S.C., Sections 182, 224, and 225.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: August 24, 2001.
Madeleine Clayton,
Departmental Paperwork Clearance Officer, Office of the Chief Information Officer.

[FR Doc. 01-21885 Filed 8-29-01; 8:45 am]

BILLING CODE 3510-07-P